FEDERAL TRADE COMMISSION

16 CFR Part 305

[RIN 3084-AB03]

Energy Labeling Rule

AGENCY: Federal Trade Commission.

ACTION: Final rule; correction.

SUMMARY: The Federal Trade Commission is correcting a final rule published in the Federal Register of September 15, 2016 (81 FR 63634). This document corrects provisions in the final rule related to ceiling fan labeling requirements.

DATES: Effective September 17, 2018.

FOR FURTHER INFORMATION CONTACT: Hampton Newsome, Attorney, Division of Enforcement, Bureau of Consumer Protection, Federal Trade Commission, Washington, DC 20580; (202) 326-2889.

SUPPLEMENTARY INFORMATION: This document makes corrections to the September 15, 2016 final rule document (81 FR 63634) amending the Energy Labeling Rule (“Rule”), 16 CFR part 305. Specifically, it corrects instruction 7 on page 63649 to indicate that the labeling requirements in section 305.13 of the Rule (Labeling for ceiling fans) apply to ceiling fans less than or equal to 84 inches in diameter, consistent with Department of Energy testing requirements (see 81 FR 48620 (July 25, 2016)). It also replaces “Sample Label 17—Ceiling Fan” in Appendix L on page 63661 to correct range and performance numbers in that sample label.

In FR Doc. 2016-21854, appearing on page 63634 in the Federal Register of Thursday, September 15, 2016, the following corrections are made:

§ 305.13 [Corrected]

1. On page 63649, in the second column, in § 305.13 Labeling for ceiling fans, in paragraph (a)(1), “models 84 inches or greater in diameter” is corrected to read “large diameter.”

2. On page 63649, in the third column, in § 305.13 Labeling for ceiling fans, in paragraph (a)(1)(xii), “and less than 84 inches” is corrected to read “and less than or equal to 84 inches.”

3. On page 63649, in the third column, in § 305.13 Labeling for ceiling fans, in paragraph (a)(5), “(cubic feet per watt)” is corrected to read “(cubic feet per minute per watt).”

Appendix L to Part 305—Sample Labels [Corrected]

4. On page 63661, in Appendix L to Part 305, remove the graphic “Sample Label 17—Ceiling Fan” and add the following graphic in its place:

By direction of the Commission.
Donald S. Clark,
Secretary.

[FR Doc. 2016-25725 Filed 10-27-16; 8:45 am]

BILLING CODE 6750-01-P